FEDERAL RETIREMENT THRIFT INVESTMENT BOARD

Sunshine Act; Notice of Meeting

TIME AND DATE: 9 a.m. (Eastern Time) November 16, 2010.

PLACE: 4th Floor Conference Room, 1250 H Street, NW., Washington, DC 20005.

STATUS: Parts will be open to the public and parts will be closed to the public.

MATTERS TO BE CONSIDERED:

Parts Open to the Public

1. Approval of the minutes of the October 18, 2010 Board Member Meeting.

2. Thrift Savings Plan Activity Report by the Executive Director.

a. Monthly Participant Activity Report.

b. Monthly Investment Performance Review.

c. Legislative Report.

Parts Closed to the Public

3. Confidential Data.

CONTACT PERSON FOR MORE INFORMATION: Thomas J. Trabucco, Director, Office of External Affairs, (202) 942-1640.

Dated: November 8, 2010.
Thomas K. Emswiler,
Secretary, Federal Retirement Thrift Investment Board.

[FR Doc. 2010-28534 Filed 11-8-10; 4:15 pm]

BILLING CODE 6760-01-P